DEPARTMENT OF COMMERCE

International Trade Administration

[A-570-941]

Certain Kitchen Appliance Shelving and Racks From the People's Republic of China; 2010-2011; Final Results of Antidumping Duty Administrative Review

AGENCY: Import Administration, International Trade Administration, Department of Commerce.

SUMMARY: On October 9, 2012, the Department of Commerce (“Department”) published its Preliminary Results of the antidumping duty order on certain kitchen appliance shelving and racks from the People's Republic of China (“PRC”).¹ We gave interested parties an opportunity to comment on the Preliminary Results. After reviewing interested parties' comments and information received, we have made no changes for the final results of review. The final antidumping duty margins for this review are listed below in the “Final Results of the Review” section of this notice. The period of review (“POR”) is September 1, 2010, through August 31, 2011.

¹ See Certain Kitchen Appliance Shelving and Racks From the People's Republic of China: Antidumping Duty Administrative Review, 2010-2011, 77 FR 61385 (October 9, 2012) (“Preliminary Results”).

DATES: Effective Date: January 25, 2013.

FOR FURTHER INFORMATION CONTACT: Emeka Chukwudebe, AD/CVD Operations, Office 9, Import Administration, International Trade Administration, U.S. Department of Commerce, 14th Street and Constitution Avenue NW., Washington, DC 20230; telephone: (202) 482-0219.

SUPPLEMENTARY INFORMATION:

Background

The Department published the Preliminary Results on October 9, 2012. In accordance with 19 CFR 351.309(c)(1)(ii), we invited parties to comment on our Preliminary Results.² On November 28, 2012, New King Shan (Zhu Hai) Co., Ltd. (“NKS”) filed a case brief. On December 3, 2012, Nashville Wire Products Inc. and SSW Holding Company, Inc. (collectively, “Petitioners”) filed a rebuttal brief.

² See id., 77 FR 61386.

Analysis of Comments Received

All issues raised in the case and rebuttal briefs by parties are addressed in the “Certain Kitchen Appliance Shelving and Racks from the People's Republic of China: Issues and Decision Memorandum for the Final Results and Final Partial Rescission of the Second Antidumping Duty Administrative Review,” dated concurrently with this notice (“Issues & Decision Memo”). A list of the issues raised by interested parties is attached to this notice as Appendix I. The Issues & Decision Memo is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Issues & Decision Memo can be accessed directly on the Internet at http://www.trade.gov/ia. The signed Issues & Decision Memo and the electronic versions of the Issues & Decision Memo are identical in content.

Scope of the Order

The products covered by the order are certain kitchen appliance shelving and racks.³ The merchandise subject to the order is currently classifiable under the Harmonized Tariff Schedule of the United States (“HTSUS”) subheadings 8418.99.8050, 8418.99.8060, 7321.90.5000, 7321.90.6090, 8516.90.8000, 7321.90.6040, 8516.90.8010 and 8419.90.9520. Although the HTSUS subheadings are provided for convenience and customs purposes, the Department's written description of the scope of the order remains dispositive.⁴

³ See id., 77 FR 61385-86.

⁴ See Certain Kitchen Appliance Shelving and Racks from the People's Republic of China: Amended Final Determination of Sales at Less Than Fair Value and Notice of Antidumping Duty Order, 74 FR 46971 (September 14, 2009).

Changes Since the Preliminary Results

Based on the comments received from the interested parties, we have made no changes to the Preliminary Results. For a discussion of the issues, see the Issues & Decision Memo.

Final Partial Rescission

Pursuant to 19 CFR 351.213(d)(1), the Department will rescind an administrative review, in whole or in part, if a party that requested the review withdraws the request within 90 days of the date of publication of the initiation notice of the requested review. As noted in the Preliminary Results, Petitioners timely requested an administrative review for Asia Pacific CIS (Wuxi) Co., Ltd., Hengtong Hardware Manufacturing (Huizhou) Co., Ltd., Jiangsu Weixi Group, Co., and Leader Metal Industry Co., Ltd. (aka Marmon Retail Services Asia); companies that had previously not received a separate rate in earlier segments of this proceeding. Then Petitioners timely withdrew their requests for review of the aforementioned companies.⁵ Petitioners were the only parties to request an administrative review of those companies.

⁵ See Preliminary Results, 77 FR 61386.

For the final results, the Department is rescinding the review with respect to those companies for which this review was initiated but had not received a separate rate in earlier segments of this proceeding. As described above, Petitioners withdrew their review request covering those companies. The Department did not rescind this review in the Preliminary Results for those companies that had not established their eligibility for a separate rate in earlier segments of this proceeding and were considered part of the PRC-wide entity, which could potentially be under review for the final results of this administrative review.⁶ The PRC-wide entity did not come under review for these final results. Therefore, the Department is rescinding this review with respect to the above-identified companies.

⁶ See id.; see also Certain Oil Country Tubular Goods From the People's Republic of China: Final Results of Antidumping Duty Administrative Review; 2010-2011, 77 FR 74644, 74645 (December 17, 2012).

Final Results of the Review

The dumping margins for the POR are as follows:

Exporter | Weighted- average dumping margin
New King Shan (Zhu Hai) Co., Ltd | 0.00%

Assessment Rates

Consistent with these final results, and pursuant to section 751(a)(2)(B) of the Tariff Act of 1930, as amended (“the Act”), and 19 CFR 351.212(b), the Department will direct U.S. Customs and Border Protection (“CBP”) to assess antidumping duties on all appropriate entries. The Department intends to issue assessment instructions to CBP 15 days after the date of publication of the final results of review. Pursuant to 19 CFR 351.212(b)(1), the Department will calculate importer (or customer) -specific assessment rates based on the ratio of the total amount of the dumping margins calculated for the examined sales to the total entered value of those same sales. The Department will instruct CBP to assess antidumping duties on all appropriate entries covered by this review if any importer-specific assessment rate is above de minimis.

The Department recently announced a refinement to its assessment practice in non-market economy (“NME”) cases. Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁷

⁷ See Non-Market Economy Antidumping Proceedings: Assessment of Antidumping Duties, 76 FR 65694 (October 24, 2011).

Cash Deposit Requirements

The following cash deposit requirements will be effective upon publication of the final results of this administrative review for all shipments of the subject merchandise from the PRC entered, or withdrawn from warehouse, for consumption on or after the publication date, as provided by section 751(a)(2)(C) of the Act: (1) For the exporter listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Disclosure

We will disclose the calculations performed within five days of the date of publication of this notice to parties in this proceeding in accordance with 19 CFR 351.224(b).

Notification to Importers Regarding the Reimbursement of Duties

This notice serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: January 17, 2013.
Paul Piquado,
Assistant Secretary for Import Administration.

Appendix I—Issues & Decision Memorandum

General Issues

Comment I: Selection of Financial Ratios

Comment II: Liquidation Instructions

[FR Doc. 2013-01584 Filed 1-24-13; 8:45 am]

BILLING CODE 3510-DS-P